ENVIRONMENTAL PROTECTION AGENCY

40 CFR Part 80

[EPA-HQ-OAR-2006-0841; FRL-8275-7]

Regulation of Fuels and Fuel Additives: Extension of the Reformulated Gasoline Program to the East St. Louis, Illinois Ozone Nonattainment Area

AGENCY: Environmental Protection Agency (EPA).

ACTION: Notice of public hearing.

SUMMARY: This action announces the date, time and place for a public hearing on the Proposed Rulemaking entitled “Extension of the Reformulated Gasoline Program to the East St. Louis, Illinois Ozone Nonattainment Area” published on December 27, 2006 (71 FR 77690).

DATES: EPA will conduct a public hearing for the December 27, 2006 Proposed Rule on Wednesday, February 21, 2007 from 9 a.m-12:30 p.m. in the Lake Huron conference room of the Metcalfe Federal Building in Chicago, Illinois. If needed, testimony will resume from 1 p.m. until 4:30 p.m. in the Lake Erie conference room.

The comment period on the December 27, 2006 Proposed Rule will extend until March 23, 2007.

ADDRESSES: The public hearing will be held at EPA Region 5's Conference and Training Center, located on the 12th floor of the Metcalfe Federal Building at 77 W. Jackson Boulevard, Chicago, IL. Additional directions and visitor information can be found at: http://www.epa.gov/region5/visitor/index.htm.

FOR FURTHER INFORMATION CONTACT: Kurt Gustafson, Transportation and Regional Programs Division (6405-J), U.S. Environmental Protection Agency, 1200 Pennsylvania Ave, NW., Washington, DC 20460. Telephone: (202) 343-9219. E-mail: gustafson.kurt@epa.gov.

SUPPLEMENTARY INFORMATION: For further information on this matter, please refer to EPA's December 27, 2006 Federal Register Notice of Proposed Rulemaking at 71 FR 77690.

Anyone who wants to present testimony about this proposal at the public hearing (see DATES) should, if possible, notify the contact person listed in the FOR FURTHER INFORMATION CONTACT section of this proposal at least seven days prior to the day of the hearing. The contact person should be given an estimate of the time required for the presentation of testimony. A sign-up sheet will be available at the registration table the morning of the hearing for scheduling those who have not notified the EPA contact earlier. This testimony will be scheduled on a first-come, first-served basis to follow the previously scheduled testimony.

EPA requests that approximately 50 copies of the statement or material to be presented be brought to the hearing for distribution to the audience. In addition, EPA would find it helpful to receive an advance copy of any statement or material to be presented at the hearing at least one week before the scheduled hearing date. Such advance copies would give EPA staff adequate time to review the materials before the hearing. Advance copies should be submitted to the EPA contact person listed in this proposal. The official records of the hearing will be kept open until the close of the comment period to allow submission of rebuttal and supplementary testimony.

Materials relevant to this notice, including the regulatory language, are contained in the Public Docket ID No EPA-HQ-OAR-2006-0841. Publicly available docket materials are available either electronically in http://www.regulations.gov or in hard copy at the Air Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

The hearing will be conducted informally, and technical rules of evidence will not apply. A written transcript of the hearing will be placed in the docket for review. Anyone who desires to purchase a copy of the transcript should make individual arrangements with the court reporter recording the proceeding.

Dated: January 26, 2007.
Margo Tsirigotis Oge,
Director, Office of Transportation and Air Quality.

[FR Doc. E7-1726 Filed 2-1-07; 8:45 am]

BILLING CODE 6560-50-P